DEPARTMENT OF COMMERCE

International Trade Administration

[A-570-909]

Certain Steel Nails From the People's Republic of China: Preliminary Results of Antidumping Duty Administrative Review, Preliminary Determination of No Shipments, and Partial Rescission; 2018-2019

AGENCY: Enforcement and Compliance, International Trade Administration, Department of Commerce.

SUMMARY: The Department of Commerce (Commerce) preliminarily determines that certain steel nails (nails) from the People's Republic of China (China) were sold in the United States at less than normal value (NV) during the period of review (POR) August 1, 2018 through July 31, 2019. We invite interested parties to comment on these preliminary results.

DATES: Applicable December 21, 2020.

FOR FURTHER INFORMATION CONTACT: Benito Ballesteros, AD/CVD Operations, Office V, Enforcement and Compliance, International Trade Administration, U.S. Department of Commerce, 1401 Constitution Avenue NW, Washington DC 20230; telephone: (202) 482-7425.

SUPPLEMENTARY INFORMATION:

Background

On October 7, 2019, Commerce published a notice of initiation of an administrative review of the antidumping duty order on nails from China.¹ This administrative review covers 308 ² companies, including two mandatory respondents: Shandong Oriental Cherry Hardware Group Co., Ltd.; and Tianjin Zhonglian Metals Ware Co., Ltd. (Zhonglian).

¹ See Initiation of Antidumping and Countervailing Duty Administrative Reviews, 84 FR 53411, 53417-53421 (October 7, 2019) (Initiation Notice); see also Notice of Antidumping Duty Order: Certain Steel Nails from the People's Republic of China, 73 FR 44961 (August 1, 2008) (Order).

² We note that we inadvertently initiated a review of one company twice, once as “Tianjin Jinghai County Hongli Industry & Business Co., Ltd.” and again as “Tianjin Jinghai County Hongli Industry and Business Co., Ltd.” We are treating these companies as the same entity for purposes of this segment of the proceeding.

On April 24, 2020, Commerce tolled all deadlines in administrative reviews by 50 days, thereby extending the deadline for these results until June 22, 2020.³ On June 15, 2020, Commerce extended the deadline to issue the preliminary results by an additional 117 days.⁴ On July 21, 2020, Commerce tolled all deadlines in administrative reviews by an additional 60 days, extending the deadline for these results until December 15, 2020.⁵

³ See Memorandum, “Tolling of Deadlines for Antidumping and Countervailing Duty Administrative Reviews in Response to Operational Adjustments Due to COVID-19,” dated April 24, 2020.

⁴ See Memorandum, “Certain Steel Nails form the People's Republic of China: Extension of Deadline for Preliminary Results of Antidumping Duty Administrative Review,” dated June 15, 2020.

⁵ See Memorandum, “Tolling of Deadlines for Antidumping and Countervailing Duty Administrative Reviews,” dated July 21, 2020.

For a complete description of the events that followed the initiation of this review, see the Preliminary Decision Memorandum.⁶ A list of topics included in the Preliminary Decision Memorandum is included as Appendix I to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at http://enforcement.trade.gov/frn/. The signed and the electronic versions of the Preliminary Decision Memorandum are identical in content.

⁶ See Memorandum, “Decision Memorandum for the Preliminary Results of the Antidumping Duty Administrative Review: Certain Steel Nails from the People's Republic of China; 2018-2019,” dated concurrently with, and hereby adopted by, this notice (Preliminary Decision Memorandum).

Scope of the Order

The products covered by the Order are nails from China. For a full description of the scope, see the Preliminary Decision Memorandum.⁷

⁷ See Preliminary Decision Memorandum.

Partial Rescission of Review

Section 351.213(d)(1) of Commerce's regulations provides that Commerce will rescind an administrative review, in whole or in part, if the party that requested the review withdraws its request for review within 90 days of the date of publication of the notice of initiation of the requested review. Commerce published the Initiation Notice on October 7, 2019.⁸

⁸ See Initiation Notice, 84 FR at 53411.

On December 30, 2019, Mid Continent Steel & Wire, Inc. (the petitioner) withdrew its request for review of The Stanley Works (Langfang) Fastening Systems Co., Ltd. and Stanley Black & Decker Inc. (collectively, Stanley).⁹ Because the review request for Stanley was timely withdrawn, and because no other party requested a review of Stanley, we are rescinding this review with respect to Stanley.

⁹ See Petitioner's Letter, “Certain Steel Nails from China: Withdrawal of Request for Administrative Reviews,” dated December 30, 2019.

Preliminary Determination of No Shipments

Ten companies ¹⁰ that are subject to this review reported that they did not have any shipments of subject merchandise during the POR.¹¹ To date, we have not received any information from either U.S. Customs and Border Protection (CBP), or from any other sources, that contradict these companies' no-shipment claims. Accordingly, we preliminarily determine that these companies had no shipments during the POR. For additional information, see the Preliminary Decision Memorandum. Consistent with Commerce's practice, we will not rescind this review with respect to these companies but will complete the review and issue appropriate instructions to CBP based on the final results of the review.¹²

¹⁰ These companies are: (1) Dezhou Hualude Hardware Products Co., Ltd.; (2) Hebei Minmetals Co., Ltd.; (3) Nanjing Caiqing Hardware Co., Ltd.; (4) Nanjing Yuechang Hardware Co., Ltd.; (5) Shandong Qingyun Hongyi Hardware Products Co., Ltd.; (6) Shanxi Hairu Trade Co., Ltd.; (7) Shanxi Pioneer Hardware Industrial Co., Ltd.; (8) Tag Fasteners Sdn. Bhd.; (9) Tianjin Jinghai County Hongli Industry & Business Co.; and (10) Xi'an Metals & Minerals Import & Export Co., Ltd. All of these companies, except for Tag Fasteners Sdn. Bhd., received a separate rate in a previous segment of this proceeding.

¹¹ Shanxi Yuci Broad Wire Products Co., Ltd. and Certified Products International Inc. submitted no shipment certifications. However, neither company is under review and, therefore, we did not consider their no shipment claims.

¹² See Non-Market Economy Antidumping Proceedings: Assessment of Antidumping Duties, 76 FR 65694, 65694-95 (October 24, 2011).

Separate Rates

Commerce preliminary determines that information placed on the record by Qingdao D&L Group Ltd.; SDC International Australia Pty. Ltd.; Shanghai Curvet Hardware Products Co., Ltd.; Shanghai Yueda Nails Industry Co., Ltd., a.k.a. Shanghai Yueda Nails Co., Ltd.; Shanxi Tianli Industries Co., Ltd.; S-Mart (Tianjin) Technology Development Co., Ltd.; Suntec Industries Co., Ltd.; Tianjin Jinchi Metal Products Co., Ltd.; and Zhonglian demonstrated that these entities are entitled to separate rate status. For additional information, see the Preliminary Decision Memorandum.

China-Wide Entity

Commerce's policy regarding conditional review of the China-wide entity applies to this administrative review.¹³ Under this policy, the China-wide entity will not be under review unless a party specifically requests, or Commerce self-initiates, a review of the entity. Because no party requested a review of the China-wide entity in this review, the entity is not under review and the weighted-average dumping margin determined for the China-wide entity (i.e., 118.04 percent) is not subject to change as a result of this review.¹⁴ Aside from the companies that demonstrated eligibility for a separate rate, and certain companies that had no POR shipments of subject merchandise, Commerce considers all other companies for which a review was requested to be part of the China-wide entity. For additional information, see the Preliminary Decision Memorandum; see also Appendix II for a list of companies considered to be part of the China-wide entity.

¹³ See Antidumping Proceedings: Announcement of Change in Department Practice for Respondent Selection in Antidumping Duty Proceedings and Conditional Review of the Nonmarket Economy Entity in NME Antidumping Duty Proceedings, 78 FR 65963 (November 4, 2013).

¹⁴ See Certain Steel Nails from the People's Republic of China: Final Results of Antidumping Duty Administrative Review; 2012-2013, 80 FR 18816, 18817.

Methodology

Commerce is conducting this review in accordance with section 751(a)(1)(B) of the Tariff Act of 1930, as amended (the Act). We calculated export prices in accordance with section 772 of the Act. Because China is a non-market economy country within the meaning of section 771(18) of the Act, we calculated NV in accordance with section 773(c) of the Act.

For a full description of the methodology underlying our conclusions, see the Preliminary Decision Memorandum.

Preliminary Results of Review

Commerce preliminarily determines that the following weighted-average dumping margins exist for the period August 1, 2018 through July 31, 2019:

¹⁵ This rate is the rate calculated for Zhonglian.

Exporter | Weighted- average dumping margin (percent)
Tianjin Zhonglian Metals Ware Co., Ltd | 18.31
Review-Specific Average Rate Applicable to the Following Companies:¹⁵
Qingdao D&L Group Ltd | 18.31
SDC International Australia Pty. Ltd | 18.31
Shanghai Curvet Hardware Products Co., Ltd | 18.31
Shanghai Yueda Nails Industry Co., Ltd., a.k.a. Shanghai Yueda Nails Co., Ltd | 18.31
Shanxi Tianli Industries Co., Ltd | 18.31
S-Mart (Tianjin) Technology Development Co., Ltd | 18.31
Suntec Industries Co., Ltd | 18.31
Tianjin Jinchi Metal Products Co., Ltd | 18.31

We preliminarily calculated a rate for Zhonglian, the sole mandatory respondent, which is not zero, de minimis, or based entirely on adverse facts available. Accordingly, we have assigned Zhonglian's margin to the companies which preliminarily rebutted the presumption of government control, but which were not selected for individual examination in this administrative review, consistent with section 735(c)(3)(A) of the Act.

Disclosure and Public Comment

Commerce intends to disclose the calculations performed for these preliminary results to interested parties within five days of the date of publication of this notice, in accordance with 19 CFR 351.224(b). Pursuant to 19 CFR 351.309(c), interested parties may submit case briefs no later than 30 days after the date of publication of this notice. Rebuttal briefs, the content of which is limited to issues raised in case briefs, may be filed no later than seven days after the date for filing case briefs.¹⁶ Parties who submit case briefs or rebuttal briefs in this proceeding are encouraged to submit with each argument: (1) a statement of the issue; (2) a brief summary of the argument; and (3) a table of authorities.¹⁷ Case and rebuttal briefs should be filed using ACCESS ¹⁸ and must be served on interested parties.¹⁹ Executive summaries should be limited to five pages total, including footnotes. Note that Commerce has temporarily modified certain of its requirements for serving documents containing business proprietary information, until further notice.²⁰

¹⁶ See 19 CFR 351.309(d).

¹⁷ See 19 CFR 351.309(c)(2) and (d)(2).

¹⁸ See generally 19 CFR 351.303.

¹⁹ See 19 CFR 351.303(f).

²⁰ See Temporary Rule Modifying AD/CVD Service Requirements Due to COVID-19; Extension of Effective Period, 85 FR 41363 (July 10, 2020).

Pursuant to 19 CFR 351.310(c), interested parties who wish to request a hearing, limited to issues raised in the case and rebuttal briefs, must submit a request to the Assistant Secretary for Enforcement and Compliance, filed electronically via ACCESS. An electronically-filed document must be received successfully in its entirety through Commerce's electronic records system, ACCESS, by 5:00 p.m. Eastern Time within 30 days after the date of publication of this notice. Requests should contain: (1) The party's name, address, and telephone number; (2) the number of participants; and (3) a list of the issues to be discussed. If a request for a hearing is made, Commerce intends to hold the hearing at a time and date to be determined. Parties should confirm by telephone the date, time, and location of the hearing two days before the scheduled date.

Unless otherwise extended, Commerce intends to issue the final results of this administrative review, which will include the results of our analysis of all issues raised in the case briefs, within 120 days of publication of these preliminary results, pursuant to section 751(a)(3)(A) of the Act.

Assessment Rates

Upon issuance of the final results, Commerce will determine, and CBP shall assess, antidumping duties on all appropriate entries covered by this review.²¹ Commerce intends to issue assessment instructions to CBP 15 days after the publication date of the final results of this review.

²¹ See 19 CFR 351.212(b).

If Zhonglian's weighted-average dumping margin is not zero or de minimis (i.e., less than 0.50 percent) in the final results of this review, Commerce will calculate importer-specific assessment rates on the basis of the ratio of the total amount of dumping calculated for the importer's examined sales to the total entered value of those sales, in accordance with 19 CFR 351.212(b)(1). Where an importer-specific ad valorem rate is not zero or de minimis, Commerce will instruct CBP to collect the appropriate duties at the time of liquidation.²² Where either a respondent's weighted-average dumping margin is zero or de minimis, or an importer-specific ad valorem assessment rate is zero or de minimis, Commerce will instruct CBP to liquidate appropriate entries without regard to antidumping duties.²³

²² See 19 CFR 351.212(b)(1).

²³ See 19 CFR 351.106(c)(2).

For entries that were not reported in the U.S. sales data submitted by Zhonglian, Commerce will instruct CBP to liquidate such entries at the rate for the China-wide entity.²⁴ Additionally, if Commerce determines that an exporter under review had no shipments of the subject merchandise, any suspended entries that entered under that exporter's case number (i.e., at that exporter's cash deposit rate) will be liquidated at the rate for the China-wide entity.²⁵

²⁴ Id.

²⁵ Id.

Cash Deposit Requirements

The following cash deposit requirements will be effective upon publication of the final results of this review for shipments of the subject merchandise entered, or withdrawn from warehouse, for consumption on or after the publication date, as provided by section 751(a)(2)(C) of the Act: (1) For the companies listed above that have a separate rate, the cash deposit rate will be equal to the weighted-average dumping margin established in the final results of this review (except, if the rate is de minimis, then cash deposit rate will be zero); (2) for previously examined China and non-China exporters not listed above that at the time of entry are eligible for a separate rate based on a prior completed segment of this proceeding, the cash deposit rate will continue to be the existing exporter-specific cash deposit rate; (3) for all China exporters of subject merchandise that have not been found to be entitled to a separate rate at the time of entry, the cash deposit rate will be that for the China-wide entity (i.e., 118.04 percent); and (4) for all non-China exporters of subject merchandise which at the time of entry are not eligible for a separate rate, the cash deposit rate will be the rate applicable to the China exporter that supplied that non-China exporter. These deposit requirements, when imposed, shall remain in effect until further notice.

Notification to Importers

This notice also serves as a preliminary reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Notification to Interested Parties

This administrative review and notice are issued and published in accordance with sections 751(a)(1) and 777(i)(1) of the Act, and 19 CFR 351.213 and 351.221(b)(4).

Dated: December 14, 2020
Joseph A. Laroski Jr.,
Deputy Assistant Secretary for Policy and Negotiations.

Appendix I

List of Topics Discussed in the Preliminary Decision Memorandum

I. Summary

II. Background

III. Scope of the Order

IV. Rescission of Review, In Part

V. Preliminary Determination of No Shipments

VI. Discussion of the Methodology

VII. Recommendation

Appendix II

China-Wide Entity

Accurate Metal Machining Co., Ltd.

Air It On Inc.

Alsons Manufactuiring India Llp

Anhui Amigo Imp. & Exp. Co. Ltd.

Anhui Tea Imp. & Exp. Co. Ltd.

Artree (Xiamen) Group Ltd

Asiahan Industrial Trading Ltd.

Astrotech Steels Pvt. Ltd.

Baoding Jieboshun Trading Co., Ltd.

Beijing Camzone Industrial & Trading Co., Ltd.

Beijing Catic Industry Ltd.

Beijing Jinheung Co., Ltd.

Beijing Qin-Li Jeff Trading Co., Ltd.

Beijing Qin-Li Metal Industries Co., Ltd

Bodi Corporation

Bonuts Hardware Logistics

Cana (Rizhao) Hardware Co., Ltd.

Cangzhou Nandagang Guotai Hardware Products Co., Ltd.

Cangzhou Xinqiao International Trade Co., Ltd

Certified Products Taiwan Inc.

Changzhou Kya Trading Co., Ltd.

Chanse Mechatronics Scientech Development (Jiangsu) Inc.

Cheng Ch International Co., Ltd.

Chia Pao Metal Co., Ltd.

China Dinghao Co., Ltd.

China Linyi Global Trade Center Co., Ltd.

China Staple Enterprise (Tianjin) Co., Ltd.

Chinapack Ningbo Imp. & Exp. Co., Ltd.

Chite Enterprises Co., Ltd.

Chonyi International Co., Ltd.

Come Best (Thailand) Co., Ltd.

Continent Link Int'l Limited

Crelux International Co., Ltd.

Daejin Steel Co., Ltd.

De Fasteners Inc.

De Hui Screw Industry Co., Ltd.

Dezhou Xinjiayuan Hardware Products Co., Ltd.

Dingzhou Baota Metal Products Co., Ltd.

Dong E Fuqiang Metal Products Co., Ltd.

Dongguan Dongri Electrical Electric Equipment Co., Ltd.

Dongguan Further Wood Products Co., Ltd.

Eco-Friendly Floor Ltd.

Ejen Brothers Limited

Empac International Ltd.

Everglow Inc.

Faithful Engineering Products Co., Ltd.

Fastenal Asia Pacific Limited

Fastening Care

Fastgrow International Co., Inc.

Finepack Industrial Limited

Foshan Hosontool Development Hardware Co., Ltd.

Foxsemicon Integrated Technology

Fujian Win Win Import and Export Trading Co., Ltd.

GD.CP International Co., Ltd.

Gdcp Richmax International Ltd.

Geekay Wires Limited

Glori-Industry Hong Kong Inc.

Grace China International Co., Ltd.

Guangdong Meite Mechanical Co. Ltd.

Guangdong TC Meite Intelligent Tools Co., Ltd.

Guangzhou Aivy Nails Technology Co.

Guangzhou Noval Medical Co., Ltd.

Guangzhou Xinfeng International Freight Co., Ltd.

Hai Sheng Xin Group Co., Ltd.

Hangzhou G-wire Technology Co., Ltd.

Hangzhou Orient Industry Co., Ltd.

Happy Worth Limited

Hebei Cangzhou New Century Foreign Trade Co., Ltd.

Hebei Jinsidun Trade Co., Ltd.

Hebei Minghao Imp. & Exp. Co., Ltd.

Hengtuo Metal Products Co., Ltd.

Home Value Co., Ltd.

Hong Kong Mu Hong Electronic Business Limited

Hongkong Milley Limited

Hongkong Shengshi Metal Products Co., Ltd.

Hongyi (HK) Hardware Products Co., Ltd.

Huaiyang County Yinfeng Plastic Factory

Huanghua Haixin Hardware Products Co., Ltd.

Huanghua Yingjin Hardware Products

Inmax Industries Sdn. Bhd.

Inmax Sdn. Bhd.

Inno International

J&b Trading Company

Jade Shuttle Enterprise Co., Ltd.

Jau Yeou Industry Co., Ltd.

Jiang Men City Yu Xing Furniture Limited Company

Jiangmen Jianghai District Hengke Plastic Film Packing Factory

Jiangsu General Science Technology Co., Ltd.

Jiangsu Hexon Imp & Exp Co., Ltd.

Jiangsu Holly Corporation

Jiangsu Huaiyin Guex Tools

Jiangsu Inter-China Group Corp.

Jiangsu Soho Honry Imp. and Exp. Co., Ltd.

Jiangsu Vivaturf Co., Limited

Jiashan Lianchuang Plastic & Hardware

Jiaxing TSR Hardware Inc.

Jinhai Hardware Co., Ltd.

Jinheung Steel Corporation

Jinhua Ausen Crafts Co., Ltd

Jinsco International Corp.

Kaierda Display Furniture Limited

Ko's Nail Incorporation

Koram Inc.

Koram Steel Co., Ltd.

Korea Wire Co., Ltd.

Liang Chyuan Ind. Co., Lmt.

Liang Chyuan Industrial Co., Limited.

Liang's Industrial Corp.

Liaocheng Minghui Hardware Products

Linyi FlyingArrow Imp. & Exp. Co. Ltd.

Linyi Royal Trading Co., Ltd

M&M Industries Co., Ltd.

Maanshan Lilai International Trade Co., Ltd.

Max Co., Ltd.

Maxwealth Development Intl Ltd.

Mayer(Hk)limited

Milkyway Chemical Supply Chain Service Co., Ltd.

Ming Cheng Hardware Company Limited

Mingguang Abundant Hardware Products Co., Ltd.

Mingguang Ruifeng Hardware Products Co., Ltd.

Modern Factory For Metal Products

MPROVE Co., Limited

Nailtech Co., Ltd.

Nanjing Duraturf Co., Ltd.

Nanjing Nuochun Hardware Co., Ltd.

Nanjing Tianxingtong Electronic Technology Co., Ltd.

Nanjing Tianyu International Co., Ltd.

Nanjing Toua Hardware & Tools Co., Ltd.

Nanjing Zeejoe International Trade

Nantong Intlevel Trade Co., Ltd.

Natuzzi China Limited

Nielsen Bainbridge LLC

Ningbo Adv. Tools Co., Ltd.

Ningbo Angelstar Trading Co., Ltd.

Ningbo Bright Max Co., Ltd.

Ningbo Fine Hardware Production Co., Ltd.

Ningbo Freewill Imp. & Exp. Co., Ltd.

Ningbo Home-dollar Imp.& Exp. Corp.

Ningbo Langyi Metal Products Co., Ltd.

Ningbo Nd Import & Export Co., Ltd.

Ningbo Otic Import and Export Co.

Ningbo Weifeng Fastener Co., Ltd.

Ningbo Wellpack Packaging Co., Ltd,

Ningbo WePartner Imp. & Exp. Co., Ltd.

Ningbo Yinzhou Angelstar International Trading

Ningbo Zenith Passion Imp. & Exp. Co, Ltd.

Ninghai Rayguang Horsemanship Produducts Co., Ltd.

Niran Vietnam Company Limited

Overseas Distribution Services Inc.

Overseas International Steel Industry

Paslode Co., Ltd.

Paslode Fasteners Co., Ltd.

Patek Tool Co., Ltd.

Perfect Seller Co., Ltd.

Potentech (Guangdong) Limited

President Industrial Inc.

Primesource Building Products

Promising Way (Hong Kong) Ltd.

Pro-Team Coil Nail Enterprise Inc.

Qingdao Ant Hardware Manufacturing Co., Ltd.

Qingdao Concord Trading Co., Ltd.

Qingdao D&L Hardware Co., Ltd.

Qingdao Gold Dragon Co., Ltd.

Qingdao Hongyuan Nail Industry Co., Ltd.

Qingdao JCD Machinery Co., Ltd.

Qingdao Jisco Co., Ltd.

Qingdao Meijialucky Industry and Co.

Qingdao MST Industry and Commerce Co., Ltd.

Qingdao Powerful Machinery Co., Ltd.

Qingdao Sunrise Metal Products Co., Ltd.

Qingdao TianHeng Xiang metal Products Co., Ltd

Qingdao Tiger Hardware Co., Ltd.

Qingdao Top Metal Industrial Co., Ltd.

Qingdao Top Steel Industrial Co., Ltd.

Qingdao Uni-Trend International Ltd.

Qingdao YuanYuan Metal Products LLC

Quanzhou Quanxing Hardware Crafts C

Quick Advance Inc.

Quzhou Monsoon Hardware Co., Ltd.

Region Industries Co., Ltd.

Region System Sdn. Bhd.

Rise Time Industrial Ltd.

Ri-Time Group Inc.

Ruifeng Hardware Products Co., Ltd.

Shaanxi Newland Industrial Co.

Shandong Dinglong Imp. & Exp. Co., Ltd.

Shandong Liaocheng Minghua Metal Pvt. Ltd.

Shandong Oriental Cherry Hardware Group Co., Ltd.

Shanghai Cedargreen Imp. & Exp. Co., Ltd.

Shanghai Centro Mechanical & Electrical

Shanghai Haoray International Trade Co., Ltd.

Shanghai Jade Shuttle Hardware Tools Co., Ltd.

Shanghai March Import & Export Co., Ltd.

Shanghai Seti Enterprise Int'l Co., Ltd.

Shanghai Shenda Imp. & Exp. Co., Ltd

Shanghai Sutek Industries Co., Ltd.

Shanghai Television and Electronics Import and Export Co., Ltd.

Shanghai Yiren Machinery Co., Ltd.

Shanghai Yueda Fasteners Co., Ltd.

Shanghai Zoonlion Industrial Co., Limited

Shanghai Zoonlion Industrial Co., Ltd.

Shanxi Easyfix Trade Co., Ltd.

Shanxi Fastener & Hardware Products

Shanxi Xinjintai Hardware Co., Ltd.

Shaoxing Bohui Import and Export Co., Ltd

Shaoxing Chengye Metal Producing Co., Ltd.

Shenzhen Chuangyuan Jiayi Trading Co., Ltd

Shenzhen Fake Trading Co., Ltd.

Shenzhen Jingmai Trade Co., Limited

Shenzhen Xinjintai Hardware Co., Ltd.

Shenzhen Yuantaifan Frame Craft

Sourcing Metrics Ltd.

Sueyi International Ltd.

Sumec Machinery and Electric Co., Ltd.

Suzhou Xingya Nail Co., Ltd.

Taizhou Dajiang Ind. Co., Ltd.

Team Builder Enterprise Ltd.

Test-Rite International Co., Ltd.

Theps International

Tian Heng Xiang Metal Products Co., Ltd.

Tianjin Baisheng Metal Products Co., Ltd.

Tianjin Bluekin Industries Ltd.

Tianjin Coways Metal Products Co., Ltd.

Tianjin Dagang Jingang Nail Factory

Tianjin Evangel Imp. & Exp. Co., Ltd.

Tianjin Fulida Supply Co., Ltd.

Tianjin High Wing International

Tianjin Hongli Qiangsheng Imp. & Exp.

Tianjin Huixinshangmao Co., Ltd.

Tianjin Hweschun Fasteners Manufacturing Co., Ltd.

Tianjin Jin Xin Sheng Long Metal Products Co., Ltd.

Tianjin Jinghai Yicheng Metal Pvt

Tianjin Jinjin Pharmaceutical Factory

Tianjin Jinmao Imp. & Exp. Corp., Ltd.

Tianjin Jinyifeng Hardware Co., Ltd.

Tianjin Jinzhuang Hardware Factory

Tianjin Lianda Group Co., Ltd.

Tianjin Liweitian Metal Technology

Tianjin Tialai Import & Export Company Ltd.

Tianjin Tianhua Environmental Plastics Co., Ltd.

Tianjin Universal Machinery Imp. & Exp. Corp.

Tianjin Yong Sheng Towel Mill

Tianjin Yongye Furniture Co., Ltd.

Tianjin Zhengjun Trade Company Limited

Tianjin Zhonglian Times Technology

Tianjin Zhongsheng Garment Co., Ltd.

Topworks Ltd.

Total Glory Logistics Co., Ltd. (Qingdao)

Trinity Steel Private Limited

Tsugaru Enterprise Co., Ltd.

Ujl Industries Co., Ltd.

Unicorn Fasteners Co., Ltd.

Verko Incorporated

Walkbase Rubber Products Co., Ltd.

Walsoon Trading Co., Ltd.

Weifang Wenhe Pneumatic Tools Co., Ltd.

Wenzhou Yodsn Fluid Equipment Co., Ltd.

Win Fasteners Manufactory (Thailand) Co., Ltd.

Wire Products Manufacturing Co., Ltd.

Wuhu Diamond Metal Products Co., ltd

Wulian Zhanpeng Metals Co., Ltd.

Wuxi Holtrent International Co., Ltd.

Wuxi Yushea Furniture Co., Ltd.

Xiamen Hongju Printing Industry &trade Co., Ltd.

Xuzhou Cip International Group Co, Ltd.

Yiwu Competency Trading Co., Ltd.

Yiwu Kingland Import & Export Co.

Yiwu Taisheng Decoration Materials Limited

Yiwu Yipeng Import & Export Co., Ltd.

Yongchang Metal Product Co., Ltd.

Youngwoo Fasteners Co., Ltd.

Yuyao Dingfeng Engineering Co. Ltd.

Zhanghaiding Hardware Co., Ltd.

Zhangjiagang Lianfeng Metals Products Co., Ltd.

Zhangjiagang Longxiang Industries Co., Ltd.

Zhaoqing Harvest Nails Co., Ltd.

Zhejiang Best Nail Industry Co., Ltd.

Zhejiang Jihengkang (JHK) Door Ind. Co., Ltd.

Zhejiang Rongpeng Imp. & Exp. Co., Ltd

Zhejiang Saiteng New Building Materials Co., Ltd.

Zhejiang Yiwu Yongzhou Imp. & Exp. Co., Ltd.

Zhong Shan Daheng Metal Products Co., Ltd.

Zhong Shan Shen Neng Metal Products Co., Ltd.

Zhucheng Jinming Metal Products Co., Ltd.

Zhucheng Runfang Paper Co., Ltd.

Zhuhai Trillion Trading Co., Ltd

Zon Mon Co., Ltd.

[FR Doc. 2020-28086 Filed 12-18-20; 8:45 am]

BILLING CODE 3510-DS-P